DEPARTMENT OF DEFENSE

Office of the Secretary

TRICARE; Implementation of the TRICARE Home Health Agency Prospective Payment System

AGENCY: Office of the Secretary, Department of Defense

ACTION: Notice of implementation of Home Health Agency Prospective Payment System.

SUMMARY: This notice is to advise interested parties of the phased-in implementation of the Home Health Agency Prospective Payment System (HHA PPS). Public notification of HHA PPS implementation was required under a previous interim final rule (67 FR 40597) published in the Federal Register on June 13, 2002, if TRICARE was unable to effectively and efficiently implement the HHA PPS within the specified statutory effective date of August 12, 2002.

The HHA PPS will be implemented with the start health care delivery date of the following regional groupings of states under each of the TRICARE Next Generation of Contracts (T-Nex); e.g., as of June 1, 2004, home health agency services in the state of Washington will be processed and paid under the HHA PPS as part of the West T-Nex regional contract.

T-Nex region/contractor | States | Start healthcare delivery
North (Health Net Federal Services, Inc.) | Illinois, Indiana, Kentucky, Michigan, Ohio, Wisconsin, West Virginia, Virginia (except the Northern Virginia/National Capital Area), North Carolina, Eastern Iowa, Rock Island, IL, Fort Campbell catchment area of Tennessee | 1 July 2004.
| Connecticut, Delaware, District of Columbia, Maine, Maryland, Massachusetts, New Hampshire, New Jersey, New York, Pennsylvania, Rhode Island, Vermont, Northern Virginia, West Virginia (portion) | 1 September 2004.
South (Humana Military Healthcare Services) | Oklahoma, Arkansas and major portions of Texas and Louisiana | 1 November 2004.
| Alabama, Florida, Georgia, Mississippi, Eastern Louisiana, South Carolina, Tennessee, small area of Arkansas, New Orleans area | 1 August 2004.
West (TriWest Healthcare Alliance Corp.) | Washington, Oregon, Northern Idaho | 1 June 2004.
| California, Hawaii, Alaska | 1 July 2004.
| Arizona, Colorado, Idaho, Iowa, Kansas, Minnesota, Missouri, Montana, Nebraska, Nevada, New Mexico, North Dakota, South Dakota, western portion of Texas, Wyoming | 1 October 2004.

FOR FURTHER INFORMATION CONTACT: David Bennett, Medical Benefits and Reimbursement Systems, TRICARE Management Activity, telephone (303) 676-3494.

Dated: March 22, 2004.
L.M. Bynum,
Alternate OSD Federal Register Liaison Officer, Department of Defense.

[FR Doc. 04-6761 Filed 3-25-04; 8:45 am]

BILLING CODE 5001-06-M